DEPARTMENT OF DEFENSE

Department of the Air Force

[Docket ID USAF-2016-HQ-0005]

Submission for OMB Review; Comment Request

AGENCY: Air Force Equal Opportunity (AF/E.O.) Program, DoD.

ACTION: 30-Day information collection notice.

SUMMARY: The Department of Defense has submitted to OMB for clearance the following proposal for collection of information under the provisions of the Paperwork Reduction Act.

DATES: Consideration will be given to all comments received by August 3, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form, and OMB Number: AF E.O. IT Systems—Entellitrack and iComplaints; AF FORM 1271, Equal Opportunity Record of Assistance/Contact; AF FORM 1587, Military Equal Opportunity Formal Complaint Summary; AF FORM 1587-1, Military Equal Opportunity Informal Complaint Summary; OMB Control Number 0701-XXXX.

Type of Request: New.

Number of Respondents: 530.

Responses per Respondent: 1.

Annual Responses: 530.

Average Burden per Response: 2 hours.

Annual Burden Hours: 1,060 hours.

Needs and Uses: The information collection requirement is necessary for the purpose of counseling, processing, investigating and adjudicating complaints of unlawful discrimination brought by AF applicants, former AF employees, contractors, retirees, and military dependents. Particularly, the information is used to investigate and resolve complaints of unlawful discrimination and sexual harassment under the AF Equal Opportunity Program; and to maintain records created as a result of the filing of allegations and appeals involving unlawful discrimination because of race, color, religion, sex, national origin, age, physical/mental disability, or genetic information.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: June 26, 2020.
Aaron T. Siegel,
Alternate OSD Federal Register Liaison Officer, Department of Defense.

[FR Doc. 2020-14247 Filed 7-1-20; 8:45 am]

BILLING CODE 5001-06-P